DEPARTMENT OF HOMELAND SECURITY

U.S. Customs and Border Protection

Notice of Cancellation of Customs Broker License

AGENCY: U.S. Customs and Border Protection, U.S. Department of Homeland Security.

ACTION: General notice.

SUMMARY: Pursuant to section 641 of the Tariff Act of 1930, as amended, (19 USC 1641) and the U.S. Customs and Border Protection regulations (19 CFR 111.51(b)), the following Customs broker license and all associated permits are cancelled with prejudice.

Name | License No. | Issuing port
John T. Sciara | 10286 | New York.

Dated: January 26, 2010.
Daniel Baldwin,
Assistant Commissioner, Office of International Trade.

[FR Doc. 2010-2304 Filed 2-2-10; 8:45 am]

BILLING CODE 9111-14-P